PEACE CORPS

22 CFR Part 303

Procedures for Disclosure of Information Under the Freedom of Information Act

Correction

In rule document 03-29409 beginning on page 66006 in the issue of Tuesday, November 25, 2003, make the following correction:

§ 303.9 [Corrected]

On page 66011, in § 303.9, in the second column, paragraph (e)(5)(vi) should read (e)(5)(iv).

[FR Doc. C3-29409 Filed 12-8-03; 8:45 am]

BILLING CODE 1505-01-D